DEPARTMENT OF JUSTICE

National Institute of Corrections

Advisory Board Meeting

Time and Date: 8:45 a.m. to 4:00 p.m. on Monday, November 13, 2000 & 8:00 a.m. to 12 noon on Tuesday, November 14, 2000.

Place: Holiday Inn Holidome & Conference Center, 5400 Holiday Drive, Frederick, Maryland 21703.

Status: Open.

Matters to be Considered: Tours/Presentations Related to the Maryland Community Criminal Justice Treatment Program in Frederick County; Updates on Mental Health Program Options and Interstate Compact Activities; Results of Advisory Board Hearings; and Reports by Program Divisions.

Contact Person for More Information: Larry Solomon, Deputy Director, 202-307-3108, ext. 155.

Larry Solomon,
Deputy Director.

[FR Doc. 00-26757 Filed 10-17-00; 8:45 am]

BILLING CODE 4410-36-M